DEPARTMENT OF DEFENSE

Department of the Air Force

Acceptance of Group Application

AGENCY: SAF/MRBB, Department of the Air Force, DOD.

ACTION: Notice.

SUMMARY: Under the provisions specified in the SUPPLEMENTARY INFORMATION section of this notice, the Department of Defense Civilian/Military Service Review Board has accepted an application on behalf of a group known as “NCIS Special Agents Who Were Assigned to the Middle East Field Office in Bahrain in Direct Support of the CTF-151 Counter-Piracy Mission.”

DATES: Persons with information or documentation pertinent to the determination of whether service of this group should be considered active military service to the Armed Forces of the United States are encouraged to submit such information or documentation within 60 days from June 13, 2017 to the DoD Civilian/Military Service Review Board (DoDC/MSRB) address specified in the ADDRESSES section of this notice.

ADDRESSES: DoD Civilian/Military Service Review Board (DoD C/MSRB), 1500 West Perimeter Road, Suite 3700, Joint Base Andrews NAF, MD 20762-7002.

FOR FURTHER INFORMATION CONTACT: Mr. Thomas R. Uiselt, Deputy Executive Secretary, DoD C/MSRB, at (240) 612-5409, thomas.r.uiselt.civ@mail.mil. Copies of documents or other materials submitted cannot be returned.

SUPPLEMENTARY INFORMATION: The Department of Defense Civilian/Military Service Review Board accepted the application under the provisions of Section 401, Public Law 95-202 and DoD Directive 100.20.

Henry Williams,
Acting Air Force Federal Register, Liaison Officer.

[FR Doc. 2017-12174 Filed 6-12-17; 8:45 am]

BILLING CODE 5001-10-P